DEPARTMENT OF TRANSPORTATION

Federal Aviation Administration

Notice of Intent To Rule on Application To Impose and Use the Revenue From a Passenger Facility Charge (PFC) at Blue Grass Airport, Lexington, KY

AGENCY: Federal Aviation Administration (FAA), DOT.

ACTION: Notice of intent to rule on application.

SUMMARY: The FAA proposes to rule and invites public comment on the application to impose and use the revenue from a PFC at Blue Grass Airport under the provisions of the Aviation Safety and Capacity Expansion Act of 1990 (Title IX of the Omnibus Budget Reconciliation Act of 1990) (Public Law 101-508) and part 158 of the Federal Aviation Regulations (14 CFR part 158).

DATES: Comments must be received on or before April 17, 2003.

ADDRESSES: Comments on this application may be mailed or delivered in triplicate to the FAA at the following address: Memphis Airports District Office, 3385 Airways Boulevard, Suite 302, Memphis, Tennessee 38116-3841.

In addition, one copy of any comments submitted to the FAA must be mailed or delivered to Mr. Michael A. Gobb, Executive Director of the Lexington-Fayette Urban County Airport Board at the following address: 4000 Versailles Road, Lexington, Kentucky 40510.

Air carriers and foreign air carriers may submit copies of written comments previously provided to the Lexington-Fayette Urban County Airport Board under § 158.23 of part 158.

FOR FURTHER INFORMATION CONTACT: Tommy L. Dupree, Program Manager, Memphis Airports District Office, 3385 Airways Boulevard, Suite 302, Memphis, Tennessee 38116-3841, (901) 544-3495, Extension 215. The application may be reviewed in person at this same location.

SUPPLEMENTARY INFORMATION: The FAA proposes to rule and invites public comment on the application to impose and use the revenue from a PFC at Blue Grass Airport under the provisions of the Aviation Safety and Capacity Expansion Act of 1990 (Title IX of the Omnibus Budget Reconciliation Act of 1990) (Public Law 101-508) and Part 158 of the Federal Aviation Regulations (14 CFR part 158).

On March 7, 2003, the FAA determined that the application to impose and use the revenue from a PFC submitted by Lexington-Fayette Urban County Airport Board was substantially complete within the requirements of section 158.25 of Part 158. The FAA will approve or disapprove the application, in whole or in part, no later than June 26, 2003.

The following is a brief overview of the application.

PFC Application No.: 03-5-C-00-LEX.

Level of the proposed PFC: $4.50.

Proposed charge effective date: September 1, 2003.

Proposed charge expiration date: March 1, 2025.

Total estimated net PFC revenue: $53,671,204.

Brief description of proposed project(s): Air Carrier Ramp Expansion, Security Upgrades, Concourses “B” & “C” Stairwells, Runway Safety Area Improvements, Taxiway “A” Rehabilitation, Terminal Interior Modifications, Concourse Gate Additions, Runway 8/26 Rehabilitation, Air Carrier Ramp Rehabilitation, PFC Application Development, and PFC Program Administration.

Class or classes of air carriers which the public agency has requested not be required to collect PFCs: The Board intends to request that those air carriers operating under Part 135, non-scheduled, whole-plane-charter basis, i.e., Air Taxi/Commercial Operators (“ATCO”) which file FAA Form 1800-31, at the Airport to be exempt from collecting the PFC.

Any person may inspect the application in person at the FAA office listed above under FOR FURTHER INFORMATION CONTACT.

In addition, any person may, upon request, inspect the application, notice and other documents germane to the application in person at the Lexington-Fayette Urban County Airport Board.

Issued in Memphis, Tennessee, on March 7, 2003.
LaVerne F. Reid,
Manager, Memphis Airports District Office, Southern Region.

[FR Doc. 03-6474 Filed 3-17-03; 8:45 am]

BILLING CODE 4910-13-M